DEPARTMENT OF JUSTICE

Notice of Lodging of Consent Decree Pursuant to the Oil Pollution Act of 1990

In accordance with Departmental policy, notice is hereby given that a proposed Consent Decree in United States v. Equilon Pipeline Company, LLC, et al., (“Settling Defendants”), Civil Action No. H- 01 3171, was lodged on September 17, 2001, with the United States District Court for the Southern District of Texas.

In this action the United States and the State of Texas, pursuant to Section 1002 of the Oil Pollution Act of 1990, (“OPA”), 33 U.S.C. 2702, seek natural resource damages, including assessment costs, arising out of the discharge of oil and gasoline into the navigable waters of the United States and the State of Texas in the vicinity of the San Jacinto River on or about October 20, 1994.

The proposed Consent Decree provides for the Defendant's purchase of about 100 acres of replacement property and payment of $250,000, to be used to construct estuarine and freshwater habitat. That payment will also produce about $30,000 for management by the Trustees of a mixed forest habitat preservation site to be acquired by the Defendants.

The Department of Justice will receive, for a period of thirty (30) days from the date of this publication, comments relating to the proposed Consent Decree. Comments should be addressed to the Assistant Attorney General for the Environment and Natural Resources Division, P.O. Box 7611, United States Department of Justice, Washington, D.C. 20044-7611, and should refer to United States v. Equilon Pipeline Company, LLC, et al., DOJ Ref. 90-5-1-1-4376/1.

The proposed Consent Decree may be examined at the office of the United States Attorney, Southern District of Texas, 911 Travis Street, Suite 1500, Houston, Texas 77208. A copy of the Consent Decree may also be obtained by mail from the Consent Decree Library, P.O. Box 7611, United States Department of Justice, Washington, D.C. 20044-7611. In requesting a copy please refer to the referenced case and enclose a check in the amount of $6.50 (25 cents per page reproduction costs), payable to the Consent Decree Library.

Tom Mariani,
Assistant Section Chief, Environmental Enforcement Section, Environment and Natural Resources Division.

[FR Doc. 01-30157 Filed 12-4-01; 8:45 am]

BILLING CODE 4410-15-M